DEPARTMENT OF THE INTERIOR

Bureau of Land Management

43 CFR Part 2800

[PO #4820000251]

RIN 1004-AE78

Rights-of-Way, Leasing, and Operations for Renewable Energy; Technical Corrections

AGENCY: Bureau of Land Management, Interior.

ACTION: Final rule; technical corrections.

SUMMARY: The Bureau of Land Management (BLM) is making technical corrections to regulations that published in the Federal Register on May 1, 2024 (final rule).

DATES: Effective on December 26, 2024.

FOR FURTHER INFORMATION CONTACT: Jayme Lopez, Interagency Coordination Liaison, by phone at (520) 235-4581, or by email at energy@blm.gov for information relating to the BLM Renewable Energy programs and information about the final rule. Please use “RIN 1004-AE78” in the subject line.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: BLM published FR Doc. 2024-08099, beginning on page 35634 in the Federal Register of May 1, 2024.

Subsequently, BLM published a correction to the final rule on June 28, 2024 (89 FR 53869), correcting its instructions for 43 CFRs 2801.5 to clarify the addition of the term “Megawatt hour (MWh) rate” instead of revising the term “Megawatt hour (MWh) rate.” However, the instructions were not updated to remove the conflicting term “Megawatt rate,” which is no longer necessary with the changes in the final rule. This correcting amendment removes the term “Megawatt rate” from § 2801.5(b).

Section 2803.10 of the final rule did not include the change to the title adding the words “or lease” as intended with the publication of the final rule. This correcting amendment revises the section title to read as, “Who may hold a grant or lease?”

Section 2804.12 in the final rule did not include the title to paragraph (j) intended for reader clarity. This correcting amendment revises paragraph (j) adding the intended title, “Complete applications:” to the paragraph.

In the final rule, § 2806.51(a) was not updated consistent with the changes of the final rule and incorrectly left regulatory text that directed readers to sections of the rule that are specific to the 2016 rule and are now incorrect and inaccurate and no longer able to be implemented. This correcting amendment revises paragraph (a) to retain the first sentence of paragraph (a) with slight revisions using the terminology of the final rule. The second and third sentences of paragraph (a) direct readers to the standard rate adjustment method and the scheduled rate adjustment method which are no longer available and were removed with the final rule.

In the final rule, instruction 28 specified § 2806.52(a) through (c) were being revised without correctly identifying the removal of § 2806.52(d). Section 2806.52(d) includes regulatory citations specific to the 2016 final rule that are now incorrect and inaccurate and no longer able to be implemented. This correcting amendment removes § 2806.52(d).

BLM also corrects § 2809.15(d)(2) by removing the colon at the end of the paragraph and adding a semicolon in its place.

Sections 2807.17 and 2807.20 of the final rule did not include the intended addition “or lease” in the titles. These section titles are revised to include the missing text to now read as, “§ 2807.17 Under what conditions may BLM suspend or terminate my grant or lease?” and “§ 2807.20 When must I amend my application, seek an amendment of my grant or lease, or obtain a new grant or lease?”

Sections 2809.13 and 2809.17 of the final rule did not include the intended section title revisions to change “offers” to read as “processes,” consistent with the changes in the regulatory text. These correcting amendments change the titles to read as “§ 2809.13 How will the BLM conduct competitive processes?” and “§ 2809.17 Will the BLM ever reject bids or re-conduct a competitive process?”

In the final rule, the title to § 2809.18 was intended to include the addition to the section title “solar and wind energy development,” consistent with the new definition of “solar and wind energy development” added to the final rule. The section now reads as, “What terms and conditions apply to a solar and wind energy development lease?” Additionally, the regulatory reference in paragraph (a) should direct readers to § 2805.11(c), not 2805.11(b), for the term of a solar and wind energy development lease. Paragraph (a) is revised, correcting the regulatory reference to read as § 2805.11(c).

List of Subjects in 43 CFR Part 2800

Electric power, Highways and roads, Penalties, Public lands and rights-of-way, Reporting and recordkeeping requirements.

Accordingly, for the reasons stated in the preamble, the BLM corrects 43 CFR part 2800 by making the following technical corrections:

PART 2800—RIGHTS-OF-WAY UNDER THE FEDERAL LAND POLICY AND MANAGEMENT ACT

1. The authority citation for part 2800 continues to read as follows:

Authority: 43 U.S.C. 1733, 1740, 1763, 1764, and 3003.

§ 2801.5 [Amended]

2. Amend § 2801.5 in paragraph (b) by removing the term “Megawatt rate”.

3. Amend § 2803.10 by revising the heading to read as follows:

§ 2803.10 Who may hold a grant or lease?

* * * * *

4. Amend § 2804.12 by revising paragraph (j) to reads as follows:

§ 2804.12 What must I do when submitting my application?

* * * * *

(j) Complete applications: Your application will not be complete until you have met or addressed the requirements of this section to the satisfaction of the BLM. The BLM will notify you in writing when your application is complete.

5. Amend § 2806.51 by revising paragraph (a) to read as follows:

§ 2806.51 Grant and lease rate adjustments.

(a) The BLM will adjust your acreage rent and capacity fee for the term of your right-of-way as described in these regulations.

* * * * *

§ 2806.52 [Amended]

6. Amend § 2806.52 by removing paragraph (d).

7. Amend § 2807.17 by revising the heading to read as follows:

§ 2807.17 Under what conditions may BLM suspend or terminate my grant or lease?

* * * * *

8. Amend § 2807.20 by revising the heading to read as follows:

§ 2807.20 When must I amend my application, seek an amendment of my grant or lease, or obtain a new grant or lease?

* * * * *

9. Amend § 2809.13 by revising the heading to read as follows:

§ 2809.13 How will the BLM conduct competitive processes?

* * * * *

10. Amend § 2809.15 by revising paragraph (d)(2) to read as follows:

§ 2809.15 How will the BLM select the successful bidder?

* * * * *

(d) * * *

(2) By the close of official business hours on the day on which the BLM conducts the competitive process or such other time as the BLM may have specified in the offer notices, submit for each parcel;

* * * * *

11. Amend § 2809.17 by revising the heading to read as follows:

§ 2809.17 Will the BLM ever reject bids or re-conduct a competitive process?

* * * * *

12. Amend § 2809.18 by revising the heading and paragraph (a) to read as follows:

§ 2809.18 What terms and conditions apply to a solar and wind energy development lease?

* * * * *

(a) Site Control. A lease provides site control to the leaseholder. The term of your lease will be consistent with § 2805.11(c) and will terminate on December 31 of the final year of the lease term. You may submit an application for renewal under § 2805.14(g). A leaseholder may not construct any facilities on the right-of-way until the BLM issues a notice to proceed or other written form of approval to begin surface disturbing activities.

* * * * *

Signing Authority

This action by the Principal Deputy Assistant Secretary is taken pursuant to an existing delegation of authority.

Steven H. Feldgus,
Principal Deputy Assistant Secretary, Land and Minerals Management.

[FR Doc. 2024-30400 Filed 12-23-24; 8:45 am]

BILLING CODE 4331-29-P